DEPARTMENT OF DEFENSE

Office of the Secretary

Submission for OMB Review; Comment Request

ACTION: Notice.

The Department of Defense has submitted to OMB for clearance, the following proposal for collection of information under the provisions of the Paperwork Reduction Act (44 U.S.C. Chapter 35).

Title, Forms, and OMB Number: Commissary Customer Service Survey; DeCA Form 60-28; OMB Number 0704-0380.

Type of Request: Revision.

Number of Respondents: 7,500.

Responses Per Respondent: 1.

Annual Responses: 7,500.

Average Burden Per Response: 4 minutes.

Annual Burden Hours: 500.

Needs and Uses: The DoD Commissary Agency has developed the “Commissary Customer Service Survey” (CCSS) as a management tool to evaluate customer satisfaction in each commissary worldwide. This management tool, “Commissary Customer Service Survey,” DeCA Form 60-28, is designed to query commissary patrons on perceived customer satisfaction.

The results will be distributed to each commissary for guidance to effectively serve patrons' needs and also to operate a more efficient and cost-effective system.

Affected Public: Individuals or households.

Frequency: Annually.

Respondent's Obligation: Voluntary.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing. Written requests for copies of the information collection proposal should be sent to Mr. Cushing, WHS/DIOR, 1215 Jefferson Davis Highway, Suite 1204, Arlington, VA 22202-4302.

Dated: July 30, 2001.
Patricia L. Toppings,
Alternate OSD Federal Register Liaison Officer, Department of Defense.

[FR Doc. 01-19586 Filed 8-3-01; 8:45 am]

BILLING CODE 5001-08-M